DEPARTMENT OF COMMERCE

National Oceanic and Atmospheric Administration

Environmental Statements; Notice of Intent: Washington Coastal Zone Management Program; Meetings; Correction

AGENCY: Office of Ocean and Coastal Resource Management (OCRM), National Oceanic and Atmospheric Administration (NOAA), Department of Commerce (DOC).

ACTION: Notice; correction.

SUMMARY: OCRM published a document in the Federal Register of January 5, 2005, announcing dates of the public scoping meetings pursuant to the National Environmental Policy Act (NEPA). The document contained an incorrect action, summary, and dates.

FOR FURTHER INFORMATION CONTACT: Masi Okasaki, (301) 713-3155, extension 185.

Correction

In the Federal Register of January 5, 2005, in FR Doc. Volume 70, Number 3, on page 790-791, correct the ACTION, SUMMARY, and DATES captions to read:

ACTION: Notice to conduct public scoping meetings pursuant to NEPA in Lacey, Seattle and Mount Vernon, WA on the proposed incorporation of the revised Shoreline Master Program (SMP) Guidelines Rule (Chapter 173-26) as an amendment to the Federally approved Washington Coastal Zone Management Program (WCZMP).

SUMMARY: In accordance with the NEPA, OCRM will conduct public scoping meetings as an opportunity for interested persons to identify to OCRM what impacts or issues should be addressed in the NEPA document and if an Environmental Impact Statement (EIS) should be prepared.

DATES:

Tuesday, February 22, 2005 at 7 p.m.

Pinnacle Room—3rd Floor in The Mountaineers Building

300 Third Avenue West, Seattle, WA 98119

(Parking lots and some street parking available with time constraints)

Wednesday, February 23, 2005 at 7 p.m.

Aqua Room in Skagit County PUD

1415 Freeway Drive, Mount Vernon, WA 98273 (Visitor parking available)

Thursday, February 24, 2005 at 7 p.m.

Washington Department of Ecology in the Auditorium

300 Desmond Drive, Lacey, WA 98503. (Visitor parking available.)

Submit suggestions or comments on the impacts or issues that should be addressed in the NEPA document and if an EIS should be prepared by attending any of the above meetings or provide written comments on or before April 1, 2005.

(Federal Domestic Assistance Catalog 11.419 Coastal Zone Management Program Administration.)
Dated: January 12, 2005.
Eldon Hout,
Director, Office of Ocean and Coastal Resource Management, National Ocean Service, National Ocean and Atmospheric Administration.

[FR Doc. 05-939 Filed 1-14-05; 8:45 am]

BILLING CODE 3510-08-P